ENVIRONMENTAL PROTECTION AGENCY

[EPA-HQ-OPP-2010-0889; FRL-10683-01-OCSPP]

Sulfoxaflor; Pesticide Product Registration; Notice of Receipt and Request for Comments

AGENCY: Environmental Protection Agency (EPA).

ACTION: Notice.

SUMMARY: EPA received applications to register new uses for pesticide products containing sulfoxaflor, a currently registered active ingredient. Pursuant to the Federal Insecticide, Fungicide, and Rodenticide Act (FIFRA), EPA is hereby providing notice of receipt and opportunity to comment on the application.

DATES: Comments must be received on or before March 27, 2023.

ADDRESSES: Submit your comments, identified by the docket identification (ID) number EPA-HQ-OPP-2010-0889, through the Federal eRulemaking Portal at https://www.regulations.gov. Follow the online instructions for submitting comments. Do not submit electronically any information you consider to be Confidential Business Information (CBI) or other information whose disclosure is restricted by statute. For the latest status information on EPA/DC services and access, visit https://www.epa.gov/dockets.

FOR FURTHER INFORMATION CONTACT: Registration Division (RD) (Mail Code 7505T); Daniel Rosenblatt; main telephone number: (202) 566-1030; email address: RDFRNotices@epa.gov; Office of Pesticide Programs, Environmental Protection Agency, 1200 Pennsylvania Ave. NW, Washington, DC 20460-0001.

SUPPLEMENTARY INFORMATION:

I. Executive Summary

A. Does this action apply to me?

This action provides information that is directed to the public in general.

B. What action is the Agency taking?

EPA is hereby providing notice of receipt and opportunity to comment on applications to register new uses for pesticide products containing sulfoxaflor, a currently registered active ingredient. Notice of receipt of the applications does not imply a decision by the Agency on these applications. For actions being evaluated under EPA's public participation process for registration actions, there will be an additional opportunity for public comment on the proposed decisions. Please see EPA's public participation website for additional information on this process (https://www.epa.gov/pesticide-registration/public-participation-process-registration-actions).

C. What is the Agency's authority for taking this action?

EPA is taking this action pursuant to FIFRA section 3(c)(4), 7 U.S.C. 136a(c)(4), and 40 CFR 152.102.

D. What should I consider as I prepare my comments for EPA?

1. Submitting CBI. Do not submit this information to EPA through https://www.regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Applications to Register New Uses

In July 2019, EPA's Office of Pesticide Program granted a number of amendments to add new uses and make other labeling changes to three existing sulfoxaflor products registered for use under FIFRA. Those amendments were challenged in the Ninth Circuit Court of Appeals. Center for Food Safety v. Reagan, 56 F.4th 648 (9th Cir. 2022). Petitioners in that case contended that EPA failed to provide notice and opportunity for comment under FIFRA section 3(c)(4) on the 2010 application for use of sulfoxaflor on citrus, cotton, cucurbits, soybean, and strawberry crops and, for uses registered in 2016, removal of restrictions limiting use to post-bloom applications on berries, canola, okra, ornamentals, pome fruit, potato, stone fruit, fruiting vegetables, nuts, succulent and dry beans; prohibiting use on crops grown for seed; prohibiting tank mixing; and removing a 12' on-field aerial buffer. The Court agreed with the Petitioners on this issue, requiring EPA to issue a new FIFRA section 3(c)(4) notice with an opportunity for comment on those uses. This notice is intended to address that part of the Court's mandate.

This unit provides the following information about the applications received and on which comments are being sought: The EPA File Symbol or Registration number(s) and EPA docket ID number for the application; The name and address of the applicant; The name of the active ingredient, product type and proposed uses; and the division to contact for that application. Additional information about the application may also be available in the docket.

• EPA File Symbol: 62719-631, 62719-623, 62719-625. Docket ID Number: EPA-HQ-OPP-2010-0889. Applicant: Corteva Agriscience, 9330 Zionsville Rd., Indianapolis, IN 46268. Active Ingredient: Sulfoxaflor. Product Type: Insecticide. Proposed Use: After conducting an extensive risk analysis, including review of one of the agency's largest datasets on the effects of a pesticide on bees, the Agency restored the 2015 vacated uses in 2019 on: citrus, cotton, cucurbits, soybeans, strawberry. The Agency also removed the following 2016 mitigations in 2019: A 12 foot on-field aerial buffer; prohibition for use on crops grown for seed; removal of the tank mix restriction; removal of restrictions limiting use to post-bloom applications on berries, canola, okra, ornamentals, pome fruit, potato, stone fruit, fruiting vegetables, nuts, succulent and dry beans. Contact: RD.

Authority: 7 U.S.C. 136 et seq.

Dated: February 16, 2023.
Daniel Rosenblatt,
Acting Director, Registration Division, Office of Pesticide Programs.

[FR Doc. 2023-03715 Filed 2-22-23; 8:45 am]

BILLING CODE 6560-50-P